NATIONAL AERONAUTICS AND SPACE ADMINSTRATION

[Notice (05-74)]

NASA Solar System Exploration Strategic Roadmap Committee; Meeting

AGENCY: National Aeronautics and Space Administration (NASA).

ACTION: Notice of meeting.

SUMMARY: In accordance with the Federal Advisory Committee Act, Public Law 92-463, as amended, the National Aeronautics and Space Administration announces a meeting of the NASA Solar System Exploration Strategic Roadmap Committee.

DATES: Tuesday, May 3, 2005, 8 a.m. to 5 p.m., Wednesday, May 4, 2005, 8 a.m. to 5 p.m.

ADDRESSES: University of Maryland Inn and Conference Center, 3501 University Blvd. East, Adelphi, MD 20740.

FOR FURTHER INFORMATION CONTACT: Dr. Carl Pilcher, 202-358-0291.

SUPPLEMENTARY INFORMATION: The meeting will be open to the public up to the seating capacity of the meeting room. Attendees will be requested to sign a register.

The agenda for the meeting is as follows:

• Review goals, decision points, and Pathways.

• Develop draft Roadmap text from Pathways.

• Generate a preliminary set of affordability indicators that will allow refinement during integration.

It is imperative that the meeting be held on this date to accommodate the scheduling priorities of the key participants.

Dated: April 11, 2005.
P. Diane Rausch,
Advisory Committee Management Officer, National Aeronautics and Space Administration.

[FR Doc. 05-7604 Filed 4-15-05; 8:45 am]

BILLING CODE 7510-13-P